DEPARTMENT OF AGRICULTURE

Submission for OMB Review; Comment Request

February 8, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 15, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Institute of Food and Agriculture

Title: Research Education Extension Project Online Reporting Tool (REEPORT).

OMB Control Number: 0524-0048.

Summary of Collection: The United States Department of Agriculture (USDA), National Institute of Food and Agriculture (NIFA) administer several competitive, peer-reviewed research, education, and extension programs, under which awards of high-priority are made. These programs are authorized pursuant to the authorities contained in the National Agricultural Research, Extension, and Teaching Policy Act of 1977, as amended (7 U.S.C. 3101), the Smith-Lever Act of 1914, as amended (Pub. L. 107-293, 2002) and other legislative authorities. NIFA also administers several formula funded research programs. The programs are authorized pursuant to the authorities contained in the McIntire-Stennis Cooperative Forestry Research Act of October 10, 1962 (16 U.S.C. 582a-582a-7) (McIntire-Stennis Act); the Hatch Act of 1887, as amended (7 U.S.C. 361a-i) (Hatch Act); Section 1445 of Public Law 95-113, the Food and Agriculture Act of 1977, as amended (7 U.S.C. 3222) (Pub. L. 95-113); Section 1433 of Subtitle E (Sections 1429-1439); Title XIV of Public Law 95-113, as amended (7 U.S.C. 3191-3201) (Pub. L. 95-113); the Smith-Lever Act; and the Renewable Resources Extension Act. Each formula funded program is also subject to requirements, which were revised in March 2000, and set forth in the Administrative Manual for the McIntire-Stennis Cooperative Forestry Research Program, the Administrative Manual for the Hatch Research Program, the Administrative Manual for the Evans-Allen Cooperative Agricultural Research Program, and the Administrative Manual for the Continuing Animal Health and Disease Research Program.

Need and Use of the Information: The collection of information is necessary in order to provide descriptive information regarding individual research, education, and integrated activities, to document expenditures and staff support for the activities, and to monitor the progress and impact of such activities. The information is collected primarily via the internet through a website that may be accessed via the NIFS Reporting Portal. The information provided helps users to keep abreast of the latest developments in utilization in specific target areas, plan for future activities; plan for resource allocation to research and education programs; avoid costly duplication of effort; aid in coordination of research and education efforts addressing similar problems in different location; and aid researchers and project directors in establishing valuable contacts with the agricultural community.

Description of Respondents: Not-for-profit institutions; Business or other for-profit; Individuals or household; Federal Government; State, Local or Tribal Government.

Number of Respondents: 23,900.

Frequency of Responses: Reporting: Once per request.

Total Burden Hours: 72,900.

Ruth Brown,
Departmental Information Collection Clearance Officer.

[FR Doc. 2021-02818 Filed 2-10-21; 8:45 am]

BILLING CODE 3410-09-P